DEPARTMENT OF TRANSPORTATION

Federal Motor Carrier Safety Administration

49 CFR Part 367

[Docket No. FMCSA-2023-0268 RIN 2126-AC67]

Fees for the Unified Carrier Registration Plan and Agreement

AGENCY: Federal Motor Carrier Safety Administration (FMCSA), Department of Transportation (DOT).

ACTION: Notice of proposed rulemaking (NPRM).

SUMMARY: FMCSA proposes amendments to its regulations governing the annual registration fees that participating States collect from motor carriers, motor private carriers of property, brokers, freight forwarders, and leasing companies for the Unified Carrier Registration (UCR) Plan and Agreement for the 2025 registration year and subsequent registration years. The fees for the 2025 registration year would be increased above the fees for the 2024 registration year by an average of 25.0 percent overall, with varying increases between $9 and $9,000 per entity, depending on the applicable fee bracket. The proposal is based upon a recommendation from the UCR Plan.

DATES: Comments must be received on or before February 8, 2024.

ADDRESSES: You may submit comments identified by Docket Number FMCSA-2023-0268 using any of the following methods:

• Federal eRulemaking Portal: Go to https://www.regulations.gov/docket/FMCSA-2023-0268/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Mr. Kenneth Riddle, Director, Office of Registration and Safety Information, FMCSA, 1200 New Jersey Avenue SE, Washington, DC 20590-0001, FMCSAMCRS@dot.gov. If you have questions on viewing or submitting material to the docket, call Dockets Operations at (202) 366-9826.

SUPPLEMENTARY INFORMATION: FMCSA organizes this NPRM as follows:

I. Public Participation and Request for Comments

A. Submitting Comments

B. Viewing Comments And Documents

C. Privacy

II. Executive Summary

A. Purpose and Summary of the Regulatory Action

B. Costs and Benefits

III. Abbreviations

IV. Legal Basis

V. Background

VI. Discussion of Proposed Rulemaking

VII. Severability

VIII. Section-by-Section Analysis

IX. Regulatory Analyses

A. Executive Order (E.O.) 12866 (Regulatory Planning and Review), E.O. 13563 (Improving Regulation and Regulatory Review), E.O. 14094 (Modernizing Regulatory Review), and DOT Regulatory Policies and Procedures

B. Congressional Review Act

C. Regulatory Flexibility Act

D. Assistance for Small Entities

E. Unfunded Mandates Reform Act of 1995

F. Paperwork Reduction Act

G. E.O. 13132 (Federalism)

H. Privacy

I. E.O. 13175 (Indian Tribal Governments)

J. National Environmental Policy Act of 1969

K. Rulemaking Summary

I. Public Participation and Request for Comments

A. Submitting Comments

If you submit a comment, please include the docket number for this NPRM (FMCSA-2023-0268), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2023-0268/document, click on this NPRM, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the NPRM contain commercial or financial information that is customarily treated as private, that you actually treat as private, and that is relevant or responsive to the NPRM, it is important that you clearly designate the submitted comments as CBI. Please mark each page of your submission that constitutes CBI as “PROPIN” to indicate it contains proprietary information. FMCSA will treat such marked submissions as confidential under the Freedom of Information Act, and they will not be placed in the public docket of the NPRM. Submissions containing CBI should be sent to Mr. Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this rulemaking.

B. Viewing Comments and Documents

To view any documents mentioned as being available in the docket, go to https://www.regulations.gov/docket/FMCSA-2023-0268/document and choose the document to review. To view comments, click this NPRM, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

DOT solicits comments from the public to better inform its regulatory process, in accordance with 5 U.S.C. 553(c). DOT posts these comments, including any personal information the commenter provides, to www.regulations.gov. This process is described in the system of records notice (DOT/ALL 14—Federal Docket Management System (FDMS)), which can be reviewed at https://www.transportation.gov/individuals/privacy/privacy-act-system-records-notices. The comments are posted without edit and are searchable by the name of the submitter.

II. Executive Summary

A. Purpose and Summary of the Regulatory Action

Under 49 U.S.C. 14504a, the UCR Plan and the 41 States participating in the UCR Agreement collect fees from motor carriers, motor private carriers of property, brokers, freight forwarders, and leasing companies. The UCR Plan and Agreement are administered by a 15-member board of directors (UCR Plan Board), which is comprised of 14 members appointed from the participating States and the industry, and the Deputy Administrator of FMCSA, who is a statutory member. Revenues collected are allocated to the participating States and the UCR Plan.

In accordance with 49 U.S.C. 14504a(d)(7) and (f)(1)(E)(ii), the UCR Plan provides fee adjustment recommendations to the Secretary when revenue collections result in a shortfall or surplus from the amount authorized by statute. If the required payments to the States and the cost of administering the UCR Plan exceed the amount in the depository, the UCR Plan must collect additional fees in subsequent years to cover the shortfall. If there are excess funds after payments to the States and for administrative costs, they are retained in the UCR Plan's depository, and fees in subsequent fee years must be reduced as required by 49 U.S.C. 14504a(h)(4). These two distinct statutory provisions are recognized in the fee adjustment recommended by the UCR Plan and proposed in this NPRM, to increase by an average of 25.0 percent the annual registration fees established pursuant to the UCR Agreement for the 2025 registration year and subsequent years.¹

¹ The UCR Plan Board's recommendation (September 2023 Fee Recommendation) was issued on September 27, 2023, and is available in the docket for this rulemaking.

B. Costs and Benefits

The changes proposed in this NPRM would increase the fees paid by motor carriers, motor private carriers of property, brokers, freight forwarders, and leasing companies to the UCR Plan and the participating States. While each motor carrier or other covered entity might realize an increased burden, fees are considered by the Office of Management and Budget (OMB) Circular A-4, Regulatory Analysis, as transfer payments, not costs. Transfer payments are payments from one group to another that do not affect total resources available to society. Therefore, transfers are not considered in the monetization of societal costs and benefits of rulemakings. The details of the amount of increase to the annual UCR fee for each fee bracket, are included in the discussion below in Section VI.

III. Abbreviations

CBI Confidential Business Information

CFR Code of Federal Regulations

CMV Commercial Motor Vehicle

DOT Department of Transportation

E.O. Executive Order

FMCSA Federal Motor Carrier Safety Administration

FR Federal Register

NAICS North American Industry Classification System

NPRM Notice of Proposed Rulemaking

OMB Office of Management and Budget

PIA Privacy Impact Assessment

PTA Privacy Threshold Assessment

RFA Regulatory Flexibility Act

SBA Small Business Administration

SBREFA Small Business Regulatory Enforcement Fairness Act of 1996 Secretary Secretary of Transportation

UCR Unified Carrier Registration

UMRA Unfunded Mandates Reform Act

U.S.C. United States Code

IV. Legal Basis

This rulemaking would adjust the annual UCR registration fees, as authorized by 49 U.S.C. 14504a. Section 14504a provides that the revenues collected from the fees should not exceed the maximum annual revenue entitlements distributed to the 41 participating States plus the amount established for administrative costs associated with the UCR Plan and Agreement. In accordance with 49 U.S.C. 14504a(f)(1)(E)(i), the statute provides for the UCR Plan to request an adjustment by the Secretary of Transportation (the Secretary) when the annual revenues are insufficient to provide the revenues to which the participating States are entitled.

In addition, 49 U.S.C. 14504a(h)(4) states that any excess funds from previous registration years held by the UCR Plan in its depository, after distribution to the States and for payment of administrative costs, shall be retained and the fees charged shall be reduced by the Secretary accordingly (49 U.S.C. 14504a(h)(4)).

The UCR Plan must also obtain DOT approval to revise the total revenue to be collected, in accordance with 49 U.S.C. 14504a(d)(7). However, no changes in the revenue allocations to the participating States were recommended by the UCR Plan or would be authorized by this rulemaking.

The Secretary also has broad rulemaking authority in 49 U.S.C. 13301(a) to carry out 49 U.S.C. 14504a, which is part of 49 U.S.C. subtitle IV, part B. Authority to administer these statutory provisions has been delegated to the FMCSA Administrator by 49 CFR 1.87(a)(2) and (7).

V. Background

This NPRM follows UCR adjustments for prior two registration years that, collectively, reduced fees by an aggregate average of 37.3 percent. First, the 2022 final rule (Fees for the Unified Carrier Registration Plan and Agreement, Sept. 1, 2022 (87 FR 53680)), as corrected on September 8, 2022 (87 FR 54902) reduced the fees for 2023 by an average of 31.2 percent from the fees for 2022. The following year, the 2023 final rule (Fees for the Unified Carrier Registration Plan and Agreement, June 22, 2023 (88 FR 40719)) reduced the fees for 2024 by an additional average of 8.9 percent from the fees for 2023. Both fee adjustment recommendations submitted by the UCR Plan, and particularly the 2023 recommendation (for 2024 registration year fees), explicitly anticipated a need to increase fees in, or around, the 2025 fee registration year because the funds from excess collections that required the 2 years of fee reductions, would be largely utilized. This need for registration fee adjustments is unavoidable due to both the statutory requirements for the UCR Plan and Agreement (as discussed above) and the fluctuations in the number of entities registering with the Plan.

The fee levels, actual and proposed, for the registration years 2019 to 2025 are shown in the following table:

Table 1—UCR Plan Fees—2019-2025
Bracket | Number of CMVs | 2019 | 2020-2022 | 2023 | 2024 | 2025
1 | * 0-2 | $68 | $59 | $41 | $37 | $46
2 | 3-5 | 204 | 176 | 121 | 111 | 138
3 | 6-20 | 407 | 351 | 242 | 221 | 276
4 | 21-100 | 1,420 | 1,224 | 844 | 769 | 963
5 | 101-1000 | 6,766 | 5,835 | 4,024 | 3,670 | 4,592
6 | 1001+ | 66,072 | 56,977 | 39,289 | 35,836 | 44,836
* Also applies to brokers and leasing companies.

The proposed fees for 2025 are still less than the fees that were in effect in registration years 2019-2022.

On September 27, 2023, the UCR Plan recommended to the Secretary that FMCSA increase the fees for the 2025 registration year no later than September 1, 2024, to allow collections to begin on October 1, 2024. As noted above, the recommendation and supporting documents are available in the docket for this rulemaking. In addition to the fee recommendation information from the UCR Plan, the submission also included an explanation of the basis for the recommendation and the procedures the UCR Plan followed in its development. This fee recommendation also included an explanation of the methodology used when calculating the fee, to facilitate public comment and allow replication of the analysis in the UCR Plan's recommendation.

VI. Discussion of Proposed Rulemaking

This NPRM proposes to increase fees by an average of 25.0 percent for the 2025 registration year, compared to the fees for 2024. The proposed increase for each fee bracket is shown in the following table:

Table 2—UCR Plan Fees Proposed Increase From 2024 to 2025
Bracket | Number of CMVs | 2024 | 2025 | Difference
1 | * 0-2 | $37 | $46 | $9
2 | 3-5 | 111 | 138 | 27
3 | 6-20 | 221 | 276 | 55
4 | 21-100 | 769 | 963 | 194
5 | 101-1000 | 3,670 | 4,592 | 922
6 | 1001+ | 35,836 | 44,836 | 9,000
* Also applies to brokers and leasing companies.

This upward fee adjustment, which follows significant fee reductions, had been anticipated and was discussed in the previous rulemaking addressing fee adjustments for the 2024 registration year.²

² The 2024 Fees for the Unified Carrier Registration Plan and Agreement final rule was published on June 2023 (88 FR 40719).

The UCR Plan modified its methodology for developing the recommendation from its most recent recommendations,³ as the previous methodology using average collections was determined by the UCR Plan to result in an over-collection of fees. The UCR Plan's recommendation now uses the minimum of the historical monthly collections for the same time periods in each of the prior 3-year periods to determine projected collections, which the UCR Plan believes will yield a more accurate result. This change in the methodology is explained more fully in the UCR Plan's recommendation, which is available in the docket for this rulemaking.

³ As explained on page 3 of the 2025 Fee Change Proposal submitted by the UCR Plan, this change in its Fee Recommendation Policy was adopted by the board of directors of the Plan at its meeting of July 27, 2023. See also 27Jul23 Board Minutes.pdf (prod-public-ucr-docs-board-minutes.s3.amazonaws.com).

VII. Severability

The revised and new sections are not severable. This is so because if the increased fees for 2025 are set aside, then the existing fee levels must remain in effect to provide funds towards participating States receiving their revenue entitlements during 2025. While the 2024 fees would not be sufficient to fully cover the 2025 State entitlements and administrative costs, that revenue would be necessary to provide at least some portion of the entitlements due to participating States.

VIII. Section-by-Section Analysis

FMCSA proposes to revise 49 CFR 367.40 (which was adopted in the 2023 final rule) so that the fees apply to registration year 2024 only. A new § 367.50 proposes to establish new increased fees applicable beginning in registration year 2025, based on the recommendation submitted by the UCR Plan in its September 2023 Fee Recommendation. The fees in proposed new § 367.50 would remain in effect for subsequent registration years after 2025 unless revised by a future rulemaking.

FMCSA also proposes to remove 49 CFR 367.20, which set the fees for 2020, 2021 and 2022, as those fee amounts will not be necessary.

IX. Regulatory Analyses

A. Executive Order (E.O.) 12866 (Regulatory Planning and Review), E.O. 13563 (Improving Regulation and Regulatory Review), E.O. 14094 (Modernizing Regulatory Review), and DOT Regulatory Policies and Procedures

FMCSA has considered the impact of this NPRM under E.O. 12866 (58 FR 51735, Oct. 4, 1993), Regulatory Planning and Review, E.O. 13563 (76 FR 3821, Jan. 21, 2011), Improving Regulation and Regulatory Review, E.O. 14094 (88 FR 29179, Apr. 11, 2023) Modernizing Regulatory Review, and DOT's regulatory policies and procedures. The Office of Information and Regulatory Affairs, as stated in section 3(f) of E.O. 12866, as supplemented by E.O. 13563 and amended by E.O. 14094, does not require an assessment of potential costs and benefits under section 6(a)(3) of that order. Accordingly, OMB has not reviewed it under that E.O.

The changes proposed by this rule would increase the registration fees paid by motor carriers, motor private carriers of property, brokers, freight forwarders, and leasing companies to the UCR Plan and the participating States. While each motor carrier or other entity would incur an increased burden, fees are considered by OMB Circular A-4, Regulatory Analysis, as transfer payments, not costs. Transfer payments are payments from one group to another that do not affect total resources available to society. By definition, transfers are not considered in the monetization of societal costs and benefits of rulemakings. The details of the amount of increase to the annual UCR fee for each fee bracket, are included in the discussion above in Section VI.

This rulemaking would establish increases in the annual registration fees for the UCR Plan and Agreement. The entities affected by this rule are the participating States, motor carriers, motor private carriers of property, brokers, freight forwarders, and leasing companies. Because the State UCR revenue entitlements would remain unchanged, the participating States would not be impacted by this rule. The primary impact of this rule would be an increase in fees paid by individual motor carriers, motor private carriers of property, brokers, freight forwarders, and leasing companies. The increase in fees for the 2025 registration year from the 2024 registration year fees (approved on June 22, 2023 (88 FR 40179)) would be an average of 25.0 percent, ranging from $9 to $9,000 per entity, depending on the number of vehicles owned or operated by the affected entities.

B. Congressional Review Act

This rule is not a major rule as defined under the Congressional Review Act (5 U.S.C. 801-808).⁴

⁴ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 802(4)).

C. Regulatory Flexibility Act

The Regulatory Flexibility Act (5 U.S.C. 601 et seq., RFA), as amended by the Small Business Regulatory Enforcement Fairness Act of 1996 (SBREFA),⁵ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁵ Public Law 104-121, 110 Stat. 857, (Mar. 29, 1996).

This rulemaking would directly affect the participating States, motor carriers, motor private carriers of property, brokers, freight forwarders, and leasing companies. Under the standards of the RFA, as amended by SBREFA, the participating States are not small entities. States are not considered small entities because they do not meet the definition of a small entity in section 601 of the RFA. Specifically, States are not considered small governmental jurisdictions under section 601(5) of the RFA, both because State government is not included among the various levels of government listed in section 601(5), and because, even if this were the case, no State or the District of Columbia has a population of less than 50,000, which is the criterion by which a governmental jurisdiction is considered small under section 601(5) of the RFA.

The Small Business Administration's (SBA's) size standard for a small entity (13 CFR 121.201) differs by industry code. The entities affected by this rule fall into many different industry codes. In order to determine if this rule would have an impact on a significant number of small entities, FMCSA examined the 2012 and 2017 Economic Census data for two different North American Industry Classification System (NAICS) industries: Truck Transportation (subsector 484) and Transit and Ground Transportation (subsector 485).

As shown in the table below, the SBA size standards for the national industries under the Truck Transportation and Transit and Ground Transportation subsectors range from $19.0 million to $43.0 million in revenue per year. To determine the percentage of firms that have revenue at or below SBA's thresholds within each of the NAICS national industries, FMCSA examined data from the 2017 Economic Census.⁶ In instances where 2017 data were suppressed, the Agency imputed 2017 levels using data from the 2012 Economic Census.⁷ Boundaries for the revenue categories used in the economic Census do not exactly coincide with the SBA thresholds. Instead, the SBA threshold generally falls between two different revenue categories. However, FMCSA was able to make reasonable estimates as to the percentage of small entities within each NAICS code.

⁶ U.S. Census Bureau. 2017 Economic Census. Table EC1700SIZEEMPFIRM—Selected Sectors: Employment Size of Firms for the U.S.: 2017. Available at: https://www.census.gov/data/tables/2017/econ/economic-census/naics-sector-48-49.html (accessed Dec. 5, 2023).

⁷ U.S. Census Bureau. 2012 Economic Census. Table EC1248SSSZ4—Transportation and Warehousing: Subject Series—Estab & Firm Size: Summary Statistics by Revenue Size of Firms for the U.S.: 2012 Available at: https://www.census.gov/data/tables/2012/econ/census/transportation-warehousing.html (accessed Dec. 5, 2023).

The percentages of small entities with annual revenue less than the SBA's threshold ranged from 96.3 percent to 100 percent. Specifically, approximately 96.3 percent of Specialized Freight (except Used Goods) Trucking, Long Distance (484230) firms had annual revenue less than the SBA's revenue threshold of $34.0 million and would be considered small entities. FMCSA estimates 100 percent of firms in the Mixed Mode Transit Systems (485111) national industry had annual revenue less than $29.0 million and would be considered small entities. The table below shows the complete estimates of the number of small entities within the national industries that may be affected by this rule.

Table 3—Estimates of Number of Small Entities
NAICS code | Description | SBA size standard in millions | Total number of firms | Number of small entities | Percent of all firms
484110 | General Freight Trucking, Local | $34.0 | 22,066 | 21,950 | 99.5
484121 | General Freight Trucking, Long Distance, Truckload | 34.0 | 23,557 | 23,045 | 97.8
484122 | General Freight Trucking, Long Distance, Less Than Truckload | 43.0 | 3,138 | 3,050 | 97.2
484210 | Used Household and Office Goods Moving | 34.0 | 6,097 | 6,041 | 99.1
484220 | Specialized Freight (except Used Goods) Trucking, Local | 34.0 | 22,797 | 22,631 | 99.3
484230 | Specialized Freight (except Used Goods) Trucking, Long Distance | 34.0 | 7,310 | 7,042 | 96.3
485111 | Mixed Mode Transit Systems | 29.0 | 25 | 25 | 100.0
485113 | Bus and Other Motor Vehicle Transit Systems | 32.5 | 318 | 308 | 96.9
485210 | Interurban and Rural Bus Transportation | 32.0 | 309 | 302 | 97.7
485320 | Limousine Service | 19.0 | 3,706 | 3,694 | 99.7
485410 | School and Employee Bus Transportation | 30.0 | 2,279 | 2,226 | 97.7
485510 | Charter Bus Industry | 19.0 | 1,031 | 1,013 | 98.3
485991 | Special Needs Transportation | 19.0 | 2,592 | 2,567 | 99.1
485999 | All Other Transit and Ground Passenger Transportation | 19.0 | 1,071 | 1,059 | 98.9

Therefore, while FMCSA has determined that this rulemaking would impact a substantial number of small entities, it has also determined that the rulemaking would not have a significant impact on them. The effect of this rulemaking would be to increase the annual registration fee that motor carriers, motor private carriers of property, brokers, freight forwarders, and leasing companies are currently required to pay. The increase will be 25.0 percent on average, $9 to $9,000 per entity, depending on the number of vehicles owned and/or operated by the affected entities.

While the RFA does not define a threshold for determining whether a specific regulation results in a significant impact, the SBA, in guidance to government agencies, provides some objective measures of significance that the agencies can consider using. One measure that could be used to illustrate a significant impact is labor costs; specifically, whether the cost of the regulation exceeds 1 percent of the average annual revenues of small entities in the sector. Given that entities owning between 0 and 2 CMVs would experience an increase of $9, a small entity would need to have average annual revenue of less than $900 to experience an impact greater than 1 percent of average annual revenue. This is an average annual revenue that is smaller than would be required for a firm to support one employee. The increased fee amount and impact on revenue increase linearly depending on the applicable fee bracket.

Consequently, I certify that the proposed action would not have a significant economic impact on a substantial number of small entities.

D. Assistance for Small Entities

In accordance with section 213(a) of SBREFA, FMCSA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT. Small businesses may send comments on the actions of Federal employees who enforce or otherwise determine compliance with Federal regulations to SBA's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

E. Unfunded Mandates Reform Act of 1995

The Unfunded Mandates Reform Act of 1995 (2 U.S.C. 1531-1538, UMRA) requires Federal agencies to assess the effects of their discretionary regulatory actions. The Act addresses actions that may result in the expenditure by a State, local, or Tribal government, in the aggregate, or by the private sector of $192 million (which is the value equivalent of $100 million in 1995, adjusted for inflation to 2022 levels) or more in any 1 year. Though this NPRM would not result in such an expenditure, and the analytical requirements of UMRA do not apply as a result, the Agency discusses the effects of this rule elsewhere in this preamble.

F. Paperwork Reduction Act

This proposed rule contains no new information collection requirements under the Paperwork Reduction Act of 1995 (44 U.S.C. 3501-3520).

G. E.O. 13132 (Federalism)

A rule has implications for federalism under section 1(a) of E.O. 13132 if it has “substantial direct effects on the States, on the relationship between the national government and the States, or on the distribution of power and responsibilities among the various levels of government.”

FMCSA has determined that this rule would not have substantial direct costs on or for States, nor would it limit the policymaking discretion of States. Nothing in this document preempts any State law or regulation. Therefore, this rule does not have sufficient federalism implications to warrant the preparation of a Federalism Impact Statement.

H. Privacy

The Consolidated Appropriations Act, 2005,⁸ requires the Agency to assess the privacy impact of a regulation that will affect the privacy of individuals. This NPRM would not require the collection of personally identifiable information.

⁸ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁹ requires Federal agencies to conduct a Privacy Impact Assessment (PIA) for new or substantially changed technology that collects, maintains, or disseminates information in an identifiable form. No new or substantially changed technology would collect, maintain, or disseminate information as a result of this rule. Accordingly, FMCSA has not conducted a PIA.

⁹ Public Law 107-347, sec. 208, 116 Stat. 2899, 2921 (Dec. 17, 2002).

In addition, the Agency submitted a Privacy Threshold Assessment (PTA) to evaluate the risks and effects the proposed rulemaking might have on collecting, storing, and sharing personally identifiable information. The DOT Privacy Office has determined that this rulemaking does not create privacy risk.

I. E.O. 13175 (Indian Tribal Governments)

This rule does not have Tribal implications under E.O. 13175, Consultation and Coordination with Indian Tribal Governments, because it does not have a substantial direct effect on one or more Indian Tribes, on the relationship between the Federal Government and Indian Tribes, or on the distribution of power and responsibilities between the Federal Government and Indian Tribes.

J. National Environmental Policy Act of 1969

FMCSA analyzed this proposed rule pursuant to the National Environmental Policy Act of 1969 (42 U.S.C. 4321 et seq.) and determined this action is categorically excluded from further analysis and documentation in an environmental assessment or environmental impact statement under FMCSA Order 5610.1 (69 FR 9680), Appendix 2, paragraph 6.h. The categorical exclusion (CE) in paragraph 6.h. covers regulations and actions taken pursuant to regulation implementing procedures to collect fees that will be charged for motor carrier registrations. The proposed requirements in this rule are covered by this CE.

K. Rulemaking Summary

As required by 5 U.S.C. 553(b)(4), a summary of this rule can be found in the Abstract section of the Department's Unified Agenda entry for this rulemaking at https://www.reginfo.gov/public/do/eAgendaMain.

List of Subjects in 49 CFR Part 367

Intergovernmental relations, Motor carriers, Brokers, Freight Forwarders.

Accordingly, FMCSA proposes to amend Title 49 CFR, subtitle B, chapter III, part 367 as follows:

PART 367—STANDARDS FOR REGISTRATION WITH STATES

1. The authority citation for part 367 continues to read as follows:

Authority: 49 U.S.C. 13301, 14504a; and 49 CFR 1.87.

2. Remove and reserve § 367.20.

3. Revise § 367.40 to read as follows:

§ 367.40 Fees under the Unified Carrier Registration Plan and Agreement for Registration Year 2024.

Table 1 to § 367.40—Fees Under the Unified Carrier Registration Plan and Agreement for Registration Year 2024
Bracket | Number of commercial motor vehicles owned or operated by exempt or non-exempt motor carrier, motor private carrier, or freight forwarder | Fee per entity for exempt or non-exempt motor carrier, motor private carrier, or freight forwarder | Fee per entity for broker or leasing company
B1 | 0-2 | $37 | $37
B2 | 3-5 | 111 |
B3 | 6-20 | 221 |
B4 | 21-100 | 769 |
B5 | 101-1,000 | 3,670 |
B6 | 1,001 and above | 35,836 |

4. Add § 367.50 to read as follows:

§ 367.50 Fees under the Unified Carrier Registration Plan and Agreement for Registration Years Beginning in 2025 and Each Subsequent Registration Year Thereafter.

Table 1 to § 367.50—Fees Under the Unified Carrier Registration Plan and Agreement for Registration Years Beginning in 2025 and Each Subsequent Registration Year Thereafter
Bracket | Number of commercial motor vehicles owned or operated by exempt or non-exempt motor carrier, motor private carrier, or freight forwarder | Fee per entity for exempt or non-exempt motor carrier, motor private carrier, or freight forwarder | Fee per entity for broker or leasing company
B1 | 0-2 | $46 | $46
B2 | 3-5 | 138 |
B3 | 6-20 | 276 |
B4 | 21-100 | 963 |
B5 | 101-1,000 | 4,592 |
B6 | 1,001 and above | 44,836 |

Issued under authority delegated in 49 CFR 1.87.
Robin Hutcheson,
Administrator.

[FR Doc. 2024-00262 Filed 1-8-24; 8:45 am]

BILLING CODE 4910-EX-P